DEPARTMENT OF HOUSING AND URBAN DEVELOPMENT

[Docket No. FR-4837-D-18]

Revocation and Redelegation of Administrative Authority for Title I, Section 109 of the Housing and Community Development Act of 1974

AGENCY: Office of the Assistant Secretary for Fair Housing and Equal Opportunity, HUD.

ACTION: Notice of revocation and redelegation of authority.

SUMMARY: The Assistant Secretary for Fair Housing and Equal Opportunity (FHEO) revokes all prior redelegations of authority made within the Office of the Assistant Secretary for FHEO under Title I, Section 109 of the Housing and Community Development Act of 1974, and redelegates certain authority to FHEO field and headquarters staff.

EFFECTIVE DATE: July 25, 2003.

FOR FURTHER INFORMATION CONTACT: Karen A. Newton, Deputy Assistant Secretary for Operations and Management, Office of Fair Housing and Equal Opportunity, Department of Housing and Urban Development, 451 Seventh Street, SW., Room 5128, Washington, DC 20410-0001, telephone (202) 708-0768. (This is not a toll-free number.) Hearing- and speech-impaired individuals may access this number through TTY by calling the toll-free Federal Information Relay Service number at (800) 877-8339.

SUPPLEMENTARY INFORMATION: By previous delegation, the Secretary of HUD delegated to the Assistant Secretary of FHEO, with certain exceptions, the authority to act as the “responsible Department official,” under Title I, Section 109 of the Housing and Community Development Act of 1974 (42 U.S.C. 5309). (See 41 FR 15359, April 12, 1976) The provisions of Section 109 are implemented through HUD's regulations in 24 CFR part 6. (See also 24 CFR 6.3, in which the “responsible official” is defined as the Assistant Secretary for FHEO (or the Assistant Secretary's designee).) The Assistant Secretary redelegates the authority under Section 109 and its implementing regulations as provided in this notice.

Section A. Authority Redelegated

The Assistant Secretary for FHEO redelegates to the General Deputy Assistant Secretary for FHEO the authority under Section 109, as provided in 24 CFR 6.10 and 6.11. The General Deputy Assistant Secretary for FHEO further redelegates these authorities, with noted exceptions, to the Deputy Assistant Secretary for Enforcement and Programs to the Director of the Office of Enforcement, and to the FHEO Hub Directors.

Section B. Authority Excepted

The Assistant Secretary for FHEO does not redelegate the authority to notify a relevant Governor or Chief Executive Officer of findings that a recipient is in noncompliance as provided in 24 CFR 6.12.

The authority delegated by the General Deputy Assistant Secretary for FHEO to the FHEO Hub Directors does not include the authority under 24 CFR 6.11(c) to review letters of finding.

Section C. Delegations of Authority Revoked

All prior redelegations of authority made within the Office of the Assistant Secretary for FHEO under Section 109 of the Housing and Community Development Act of 1974 are revoked.

Authority: Section 7(d), Department of Housing and Urban Development Act (42 U.S.C. 3535(d)).

Dated: July 25, 2003.
Carolyn Y. Peoples,
Assistant Secretary for Fair Housing and Equal Opportunity.
Floyd O. May,
General Deputy Assistant Secretary for Fair Housing and Equal Opportunity.

[FR Doc. 03-19788 Filed 8-1-03; 8:45 am]

BILLING CODE 4210-28-P